NUCLEAR REGULATORY COMMISSION

[Docket No. 50-282; NRC-2011-0040]

Prairie Island Nuclear Generating Plant, Unit 1, Northern States Power Company—Minnesota; Notice of Consideration of Issuance of Amendment to Facility Operating License Involving No Significant Hazards Considerations; Correction

AGENCY: Nuclear Regulatory Commission.

ACTION: Notice of Issuance; Correction.

SUMMARY: This document corrects a notice appearing in the Federal Register on February 22, 2011 (76 FR 9827), which informed the public that the Nuclear Regulatory Commission was considering the issuance of amendments to Facility Operating License Nos. DPR-42 and DPR-60, respectively, for the Prairie Island Nuclear Generating Plant, Units 1 and 2. This action is necessary to correct the affected Facility License and Docket Nos., since the amendment request applies to Unit 1 only.

FOR FURTHER INFORMATION CONTACT: Thomas J. Wengert, Office of Nuclear Reactor Regulation, U.S. Nuclear Regulatory Commission, Washington, DC 20555-0001; telephone (301) 415-4037, e-mail: Thomas.Wengert@nrc.gov.

SUPPLEMENTARY INFORMATION: On page 9827, appearing at the top of the second column: the title is corrected to read from “Docket Nos. 50-282 and 50-306, Prairie Island Nuclear Generating Plant, Units 1 and 2” to “Docket No. 50-282, Prairie Island Nuclear Generating Plant, Unit 1.”

Dated in Rockville, Maryland, this 23rd day of February 2011.
For the Nuclear Regulatory Commission.
Thomas J. Wengert,
Senior Project Manager, Plant Licensing Branch III-1, Division of Operating Reactor Licensing, Office of Nuclear Reactor Regulation.

[FR Doc. 2011-4557 Filed 3-1-11; 8:45 am]

BILLING CODE 7590-01-P